NUCLEAR REGULATORY COMMISSION

[Docket No. 50-353]

Exelon Generation Company, LLC; Notice of Withdrawal of Application for Amendment to Facility Operating License No. NPF-85; Limerick Generating Station Unit No. 2

The U.S. Nuclear Regulatory Commission (the Commission) has granted the request of Exelon Generation Company, LLC (the licensee) to withdraw its November 16, 2007, application for proposed amendment to Facility Operating License No. NPF-85 for Limerick Generating Station, Unit No. 2, located in Montgomery County, Pennsylvania.

The proposed amendment would have revised the technical specifications pertaining to reactor coolant system leakage detection systems due to the inoperability of the drywell unit cooler condensate flow rate monitoring system. The Commission had previously issued a Notice of Consideration of Issuance of Amendment published in the Federal Register on December 31, 2007 (72 FR 74359). However, by letter dated March 28, 2008, the licensee withdrew the proposed change.

For further details with respect to this action, see the application for amendment dated November 16, 2007, and the licensee's letter dated March 28, 2008, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the Internet at the NRC Web site, http://www.nrc.gov/reading-rm.html. Persons who do not have access to ADAMS or who encounter problems in accessing the documents located in ADAMS should contact the NRC PDR Reference staff by telephone at 1-800-397-4209, or 301-415-4737 or by e-mail to pdr@nrc.gov.

Dated at Rockville, Maryland, this 17th day of April, 2008.
For the Nuclear Regulatory Commission
Peter J. Bamford,
Project Manager, Plant Licensing Branch I-2, Division of Operating Reactor Licensing, Office of Nuclear Reactor Regulation.

[FR Doc. E8-9220 Filed 4-25-08; 8:45 am]

BILLING CODE 7590-01-P